DEPARTMENT OF ENERGY

Federal Energy Regulatory Commission

Notice of Intent To File License Application, Filing of Pre-Application Document, and Approval of Use of the Traditional Licensing Process

March 23, 2007.

a. Type of Filing: Notice of Intent to File License Application and Request to Use the Traditional Licensing Process.

b. Project No.: 12455-003.

c. Dated Filed: September 1, 2006.

d. Submitted by: Borough of Leighton, Pennsylvania.

e. Name of Project: Beltzville Hydroelectric Project.

f. Location: The project would be connected to the U.S. Army Corps of Engineers Beltzville Dam, located on Pohopoco Creek, in the Borough of Leighton, Carbon County, Pennsylvania.

g. Filed Pursuant to: 18 CFR 5.3 of the Commission's regulations.

h. Applicant Contact: Mr. John F. Hanosek, P.E., Borough Manager, P.O. Box 29, Municipal Building, Second and South Street, Leighton, PA 18235, (610) 377-4002.

i. FERC Contact: Jack Hannula, (202) 502-8917 or john.hannula@ferc.gov.

j. The Borough of Leighton, Pennsylvania filed its request to use the Traditional Licensing Process on August 31, 2006. The Borough of Leighton, Pennsylvania filed public notice of its request on September 19, 2006. In a letter dated October 27, 2006, the Director of the Office of Energy Projects approved the Borough of Leighton, Pennsylvania's request to use the Traditional Licensing Process.

k. The Borough of Leighton, Pennsylvania filed a Pre-Application Document (PAD; including a proposed process plan and schedule) with the Commission, pursuant to 18 CFR 5.6 of the Commission's regulations.

l. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, of for TTY, (202) 502-8659. A copy is also available for inspection and reproduction at the address in paragraph h.

Register online at http://ferc.gov/docs-filing/esubscription.asp to be notified via e-mail of new filing and issuances related to this or other pending projects. For assistance, contact FERC Online Support.

Philis J. Posey,
Acting Secretary.

[FR Doc. E7-5762 Filed 3-28-07; 8:45 am]

BILLING CODE 6717-01-P